DEPARTMENT OF DEFENSE

Office of the Secretary

[Transmittal No. 16-55]

Arms Sales Notification

AGENCY: Defense Security Cooperation Agency, Department of Defense.

ACTION: Arms sales notice.

SUMMARY: The Department of Defense is publishing the unclassified text of an arms sales notification.

FOR FURTHER INFORMATION CONTACT: Pamela Young, (703) 697-9107 or Kathy Valadez, (703) 697-9217; DSCA/DSA-RAN.

SUPPLEMENTARY INFORMATION: This 36(b)(1) arms sales notification is published to fulfill the requirements of section 155 of Public Law 104-164 dated July 21, 1996. The following is a copy of a letter to the Speaker of the House of Representatives, Transmittal 16-55 with attached Policy Justification and Sensitivity of Technology.

Dated: August 23, 2017.
Aaron Siegel,
Alternate OSD Federal Register Liaison Officer, Department of Defense.

BILLING CODE 5001-06-P

BILLING CODE 5001-06-C

Transmittal No. 16-55

Notice of Proposed Issuance of Letter of Offer Pursuant to Section 36(b)(1) of the Arms Export Control Act, as amended

(i) Prospective Purchaser: The Federal Republic of Nigeria

(ii) Total Estimated Value:

Major Defense Equipment * | $ 29 million
Other | $564 million
TOTAL | $593 million

(iii) Description and Quantity or Quantities of Articles or Services under Consideration for Purchase:

Major Defense Equipment (MDE):

One hundred (100) GBU-12 (500lb) Paveway II (PW-II) Tailkits

One hundred (100) GBU-58 (250lb) PW-II Tailkits

Four hundred (400) Laser Guided Rockets including Advanced Precision Kill Weapon System (APKWS)

Two thousand (2,000) MK-81 (250lb) bombs

Five thousand (5,000) 2.75 inch Hydra 70 Unguided Rockets (70mm rockets)

One thousand (1,000) 2.75 inch Hydra 70 Unguided Rockets (practice)

Twenty thousand (20,000) Rounds, .50 Caliber Machine Gun Ammo

Non-Major Defense Equipment (MDE): This request also includes the following Non-MDE: Twelve (12) A-29 Super Tucano aircraft, seven (7) AN/AAQ-22F Electro-Optical/Infrared (EO/IR) Sensor and Laser Designators, Initial Spares, Readiness Spares Package, Consumables, Support Equipment, Technical Data, Repair and Return Support, Facilities infrastructure and hangar construction, Night Vision Devices (NVDs), Contract Logistics Services (CLS), Contractor Provided Familiarization and Training, USG Manpower and Services, Field Service Representatives, Training Services (pilot training, USAF training, early A-29 training, flight leader upgrade training, travel and living allowance, maintenance training, specialized training, computer-based training, night vision device training, human rights and international humanitarian law, and munitions training), Training Simulators, Air Worthiness Support, Forward Operating Base Facilities, Forward Operating Location Support, Ferrying, and Non-recurring Engineering. Additionally, all aircraft will include weapons software to support forward looking infrared sensors (FLIRs), ancillary system.

(iv) Military Department: Air Force (X8-D-SAB)

(v) Prior Related Cases, if any: None

(vi) Sales Commission, Fee, etc., Paid, Offered, or Agreed to be Paid: None

(vii) Sensitivity of Technology Contained in the Defense Article or Defense Services Proposed to be Sold: See Annex attached.

(viii) Date Report Delivered to Congress: August 2, 2017

* As defined in Section 47(6) of the Arms Export Control Act.

POLICY JUSTIFICATION

Nigeria—A-29 Super Tucano Aircraft, Weapons and Associated Support

The Government of Nigeria requests twelve (12) A-29 Super Tucano aircraft and weapons, including all associated training, spare parts, aviation and ground support equipment, and hangar, facilities, and infrastructure required to support the program. The estimated total case value is $593 million.

These aircraft will support Nigerian military operations against terrorist organization Boko Haram and to counter illicit trafficking in Nigeria and the Gulf of Guinea. The Super Tucano is a sustainable platform for counterterrorism, counter insurgency, border surveillance, and illicit trade interdiction operations. The proposed sale will support U.S. foreign policy objectives by helping Nigeria to meet shared counterterrorism objectives for the region. This proposed sale will strengthen the U.S. security relationship with Africa's largest democracy. Nigeria will have no difficulty absorbing these aircraft into its armed forces.

The proposed sale of this equipment and support does not alter the basic military balance in the region.

The prime contractor is the Sierra Nevada Corporation, headquartered in Centennial, Colorado. There are no known offset agreements proposed in connection with this potential sale.

Implementation of this proposed sale will require the assignment of U.S. Government or contractor representatives to Nigeria for mobile training teams and contract logistic support.

There will be no adverse impact on U.S. defense readiness as a result of this proposed sale.

Transmittal No. 16-55

Notice of Proposed Issuance of Letter of Offer Pursuant to Section 36(b)(l) of the Arms Export Control Act

Annex

Item No. vii

(vii) Sensitivity of Technology:

1. This sale involves the release of sensitive weapons software technology information to Nigeria. Software associated with the following weapons will be included in the aircraft operational flight program to support a future weapons capability.

2. Sensitive and/or classified (up to SECRET) elements of the proposed A-29 sale to Nigeria includes the hardware and associated software with: Advanced Precision Kill Weapon System (APKWS) laser guided rockets, Guided Bomb Unit (GBU)-12/58 Paveway II laser guided tail kits, and Mark (MK)-81/82 general purpose bombs.

3. The Hydra 70 Rocket System is a modernized version of the 2.75 inch (70 mm) unguided rocket body with the MK66 Rocket Motor.

4. The APKWS is a low cost semi-active laser guidance kit developed by BAE Systems which is added to current unguided 70 mm rocket motors and warheads similar to and including the Hydra 70 rocket. It is a low collateral damage weapon that can effectively strike both soft and lightly armored targets. APKWS turns a standard unguided 2.75 inch (70 mm) rocket into a precision laser-guided rocket, classification up to SECRET.

5. GBU-12/58 Paveway II (PW-II) Tailkits: 500-lb (GBU-12) and 250-lb (GBU-58) are laser-guided ballistic bombs (LGBs) developed by Raytheon and Lockheed Martin. The LGB is a maneuverable, free-fall weapon that guides to a spot of laser energy reflected off of the target. The LGB is delivered like a normal general purpose (GP) warhead and the semi-active guidance corrects for many of the normal errors inherent in any delivery system. Laser designation for the weapon can be provided by a variety of laser target markers or designators. The tailkit consists of a laser guidance kit, a computer control group (CCG) and a warhead specific Air Foil Group (AFG), that attach to the nose and tail of MK 81 and MK 82 General Purpose (GP) bomb bodies to create an LGB. This sale includes the tailkits to transform Nigeria's existing 500-lb and 250-lb GP bomb bodies into GBU-12s and GBU-58s respectively. Nigeria is also buying additional GBU-58s, 250-lb (MK-81) guided bombs. The overall weapon is CONFIDENTIAL.

6. AN/AAQ-22F Brite Star Electro-Optical/Infrared (EO/IR) Multi-Sensor Targeting System developed by FLIR. The system is a five field-of-view (FOV) large format thermal imager, three FOV color daylight camera with laser designator for terminal guidance of LGBs and IR-guided rockets. The system is classified as UNCLASSIFIED.

7. This sale is necessary in furtherance of U.S. foreign policy and national security objectives outlined in the Policy Justification. Moreover, the benefits to be derived from this sale, as outlined in the Policy Justification, outweigh the potential damage that could result if the sensitive technology were revealed to unauthorized persons.

8. All defense articles and services listed in this transmittal are authorized for release and export to the Government of Nigeria.

[FR Doc. 2017-18201 Filed 8-25-17; 8:45 am]

BILLING CODE 5001-06-C